DEPARTMENT OF COMMERCE

Foreign-Trade Zones Board

[Order No. 1924]

Expansion of Foreign-Trade Zone 277 Under Alternative Site Framework; Western Maricopa County, Arizona

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, Greater Maricopa Foreign-Trade Zone, Inc., grantee of Foreign-Trade Zone 277, submitted an application to the Board (FTZ Docket B-89-2012, docketed 12-12-2012) for authority to expand under the ASF to include a new magnet site, proposed Site 7, expand existing Site 5 to include additional acreage and be designated as a magnet site, and designate Site 6 as a usage-driven site, adjacent to the Phoenix, Arizona U.S. Customs and Border Protection port of entry;

Whereas, notice inviting public comment was given in the Federal Register (77 FR 75144-75145, 12-19-2012) and the application has been processed pursuant to the FTZ Act and the Board's regulations; and,

Whereas, the Board adopts the findings and recommendation of the examiner's report, and finds that the requirements of the FTZ Act and the Board's regulations are satisfied;

Now, therefore, the Board hereby orders:

The application to expand FTZ 277 under the ASF is approved, subject to the FTZ Act and the Board's regulations, including Section 400.13, to the Board's standard 2,000-acre activation limit for the zone, to a five-year ASF sunset provision for magnet sites that would terminate authority for Site 5 and Site 7 if not activated by December 31, 2018, and to a three-year ASF sunset provision for usage-driven sites that would terminate authority for Site 6 if no foreign-status merchandise is admitted for a bona fide customs purpose by December 31, 2016.

Signed at Washington, DC, this 23rd day of December 2013.
Paul Piquado,
Assistant Secretary of Commerce for Enforcement and Compliance, Alternate Chairman, Foreign-Trade Zones Board.

ATTEST:

Andrew McGilvray,
Executive Secretary.

[FR Doc. 2014-00396 Filed 1-10-14; 8:45 am]

BILLING CODE 3510-DS-P